DEPARTMENT OF COMMERCE

National Oceanic and Atmospheric Administration

RIN 0648-XD505

Endangered Species; File No. 18688

AGENCY: National Marine Fisheries Service (NMFS), National Oceanic and Atmospheric Administration (NOAA), Commerce.

ACTION: Issuance of permit.

SUMMARY: Notice is hereby given that NMFS Pacific Islands Regional Office (PIRO), 1601 Kapiolani Boulevard, Suite 1110, Honolulu, HI 96814 [Responsible Party: Michael Tosatto], has been issued a permit to take hawksbill (Eretmochelys imbricata), olive ridley (Lepidochelys olivacea), leatherback (Dermochelys imbricata), loggerhead (Caretta caretta) and green (Chelonia mydas) sea turtles for purposes of scientific research.

ADDRESSES: The permit and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Hapeman or Courtney Smith; phone: (301) 427-8401.

SUPPLEMENTARY INFORMATION: On September 22, 2014, notice was published in the Federal Register (79 FR 56573) that a request for a scientific research permit to take hawksbill, olive ridley, leatherback, loggerhead and green sea turtles had been submitted by the above-named organization. The requested permit has been issued under the authority of the Endangered Species Act of 1973, as amended (ESA; 16 U.S.C. 1531 et seq.) and the regulations governing the taking, importing, and exporting of endangered and threatened species (50 CFR parts 222-226).

NMFS PIRO has been issued a five-year research permit to conduct research on sea turtles bycaught in three longline fisheries in the Pacific Ocean around Hawaii and American Samoa to assess sea turtle post-hooking survival, movements, and ecology in pelagic habitats. The permit authorizes examination, morphometrics, biological sampling, and tagging of live sea turtles and the collection of carcasses, tissues and parts from dead sea turtles. Authorized take numbers for these activities are consistent with the number of turtle captures analyzed in the incidental take statement of the biological opinion prepared for each fishery.

Issuance of this permit, as required by the ESA, was based on a finding that such permit (1) was applied for in good faith, (2) will not operate to the disadvantage of such endangered or threatened species, and (3) is consistent with the purposes and policies set forth in section 2 of the ESA.

Dated: June 23, 2015.
Julia Harrison,
Chief, Permits and Conservation Division, Office of Protected Resources, National Marine Fisheries Service.

[FR Doc. 2015-15749 Filed 6-25-15; 8:45 am]

BILLING CODE 3510-22-P